FEDERAL MINE SAFETY AND HEALTH REVIEW COMMISSION

Privacy Act of 1974; System of Records

AGENCY: Federal Mine Safety and Health Review Commission.

ACTION: Notice of new, altered, and deleted systems of records.

SUMMARY: On May 14, 1998, the President directed executive departments and agencies to, among other things, review all systems of records subject to the Privacy Act of 1974, as amended, 5 U.S.C. 552a (“Privacy Act”) for accuracy, completeness and to ensure that all routine uses are needed and consistent with the purposes for which the records were collected in each system. The Federal Mine Safety and Health Review Commission (“Commission” or “FMSHRC”) has conducted such a review, and now publishes this notice of new, altered, and deleted systems of records.

DATES: Comments on the proposed routine uses for the systems of records included in this notice must be received by the Commission by May 8, 2000. The Commission filed a report describing the new, altered, and deleted systems of records covered by this notice with the Chair of the Committee on Governmental Affairs of the Senate, the Chair of the Committee on Government Reform of the House of Representatives, and the Administrator of the Office of Information and Regulatory Affairs, Office of Management and Budget (“OMB”) on March 30, 2000. The changes described in this notice will become effective after the 40-day period for OMB review expires on May 16, 2000, unless OMB gives specific notice within the 40 days that the changes are not approved for implementation. The new routine uses that are the subject of this notice will take effect on May 16, 2000 unless modified by a subsequent notice to incorporate comments received from the public.

ADDRESSES: All comments on the proposed routine uses should be mailed to Richard L. Baker, FMSHRC Privacy Act Officer and Executive Director, Federal Mine Safety and Health Review Commission, 1730 K Street, NW., 6th Floor, Washington DC 20006.

FOR FURTHER INFORMATION CONTACT: Richard L. Baker, FMSHRC Privacy Act Officer and Executive Director, Federal Mine Safety and Health Review Commission, 1730 K Street, NW, 6th Floor, Washington, DC 20006, telephone 202-653-5610 (202-566-2673 for TDD Relay). These are not toll-free numbers.

SUPPLEMENTARY INFORMATION: The Privacy Act applies to information about individuals that may be retrieved by a unique identifier associated with each individual, such as a name or social security number. The information about each individual is called a “record” and the system, whether manual or computer-driven, is called a “system of records.” A system is considered altered whenever certain fundamental changes are made to the system, such as whenever certain disclosures, called “routine uses,” are changed.

In a memorandum dated May 14, 1998, President Clinton directed executive departments and agencies to conduct a thorough review of all agency system of records for accuracy and completeness. The President specifically directed agencies to consider changes in technology, function, and organization that may have made the systems out-of-date and to review the routine uses published in the system notices to make sure they continue to be necessary and compatible with the purposes for which the information is collected. He also directed agencies to identify systems that may not have been described in a notice published in the Federal Register and to publish notices for any changes to the agency systems of records.

In its review, the Commission determined that two of its systems of records are no longer relevant and necessary to accomplish an agency purpose, that the remaining three systems require revision, and that three additional systems of records should be identified and included in the Commission's systems of records. The two systems of records that are no longer relevant and necessary to accomplish an agency purpose are: (1) FMSHRC-04, “Property Management System;” and (2) FMSHRC-05, “Administrative Law Judge Caseload Report.” See 49 FR 30668, 30669-70 (July 31, 1984). The property management system of records (FMSHRC-04) contained information concerning the description, value and location of furnishings and equipment. The Commission has found it unnecessary to continue to maintain such records because furnishings and equipment are no longer assigned to Commission employees and members. In addition, the Administrative Law Judge caseload report (FMSHRC-05) is no longer used by the Commission. Accordingly, the Commission is deleting these systems.

The Commission proposes revisions to the three remaining systems in order to update them. The Commission proposes changing the system name of FMSHRC-01 from “Payroll records” to “Pay and leave records,” in order to more accurately describe the records included in this system, and to revise the routine uses of records maintained in this system. In addition, the Commission proposes to change the name of FMSHRC-02 from “General finance and accounting records” to “General finance, accounting and travel records;” to revise that system to include travel records and records pertaining to usage of Westlaw and usage of government credit cards for administrative supply purchases; to update other categories of records included in this system; and to revise the routine uses of records maintained in this system. The Commission also proposes revising FMSHRC-03 to update and more accurately describe categories of records included in this system. Finally, the Commission proposes to update its general statement of routine uses, formerly set forth in the Appendix, 49 FR at 306670.

The Commission identified three systems of records, not previously identified, in which information by individual name or identifier is relevant and necessary to an agency purpose. Specifically, those systems include: (1) Biographical data files on presidential appointees; (2) federal fare subsidy benefit program records; and (3) the Commission's official case files filed according to and retrieved by the name of an individually-named miner. As to the first and second systems, information is retrieved by using an individual's name or other identifying link. As to the third system, information is retrieved from Commission adjudicatory case files through the use of a docket number or case name. In the large majority of cases before the Commission, case names are derived from a mine operator's name or a union. In a small percentage of cases, cases are identified by an individual miner's name, such as when a miner brings a discrimination complaint in an individual capacity under 30 U.S.C. 815(c)(3), or when the Secretary of Labor takes an enforcement action against a miner under 30 U.S.C. 820(c) or 820(g). Included in the third system of records are only those official case files filed according to and retrieved by an individually named miner's name. Accordingly, the Commission proposes adding these three new systems.

In sum, the Commission proposes identifying its systems as: FMSHRC-01, Pay and leave records; FMSHRC-02, General finance, accounting, and travel records; FMSHRC-03, General informal personnel files; FMSHRC-04, Biographical data file-presidential appointees; FMSHRC-05, Federal fare subsidy benefit program records; and FMSHRC-06, Official case files filed according to and retrieved by name of individually-named miner. The systems of records are published in their entirety below.

Systems of Records

Table of Contents

FMSHRC-01 Pay and leave records

FMSHRC-02 General finance, accounting, and travel records

FMSHRC-03 General informal personnel files

FMSHRC-04 Biographical data file-presidential appointees

FMSHRC-05 Federal fare subsidy benefit program records

FMSHRC-06 Official case files filed according to and retrieved by name of individually-named miner

General Statement of Routine Uses

In addition to the disclosures generally permitted under 5 U.S.C. 552a(b), the Commission may disclose a record or information in a Privacy Act system of records under 5 U.S.C. 552a(b)(3) as provided below.

(1) Routine use for disclosure to the Department of Justice for use in litigation:

To the Department of Justice when: (a) FMSHRC or any component thereof; or (b) any employee of FMSHRC in his or her official capacity; or (c) any employee of FMSHRC in his or her individual capacity where the Department of Justice has agreed to represent the employee; or (d) the United States Government, is a party to litigation or has an interest in such litigation, and by careful review, FMSHRC determines that the records are both relevant and necessary to the litigation and the use of such records by the Department of Justice is therefore deemed by FMSHRC to be a purpose that is compatible with the purpose for which FMSHRC collected the records.

(2) Routine use for other disclosures in litigation:

To a court or adjudicative body in a proceeding when: (a) FMSHRC or any component thereof; or (b) any employee of FMSHRC in his or her official capacity; or (c) any employee of FMSHRC in his or her individual capacity where FMSHRC has agreed to represent the employee; or (d) the United States Government, is a party to litigation or has an interest in such litigation, and by careful review, FMSHRC determines that the records are both relevant and necessary to the litigation and the use of such records is therefore deemed by FMSHRC to be a purpose that is compatible with the purpose for which FMSHRC collected the records.

(3) Routine use for law enforcement purposes:

When a record on its face, or in conjunction with other records, indicates a violation or potential violation of law, whether civil, criminal or regulatory in nature, and whether arising by general statute or particular program statute, or by regulation, rule, or order issued pursuant thereto, disclosure may be made to the appropriate agency, whether federal, foreign, state, local, or tribal, or other public authority responsible for enforcing or implementing the statute, or rule, regulation, or order issued pursuant thereto, if the information disclosed is relevant to any enforcement, regulatory, investigative or prosecutive responsibility of the receiving entity.

(4) Routine use for disclosure to a member of Congress at the request of a constituent:

To a member of Congress or to a Congressional staff member in response to an inquiry of the Congressional office made at the written request of the constituent about whom the record is maintained.

(5) Routine use for records management purposes:

Records from a Privacy Act system of records may be disclosed to the National Archives and Records Administration or to the General Services Administration for records management inspections conducted under 44 U.S.C. 2904 and 2906.

(6) Routine use for disclosure to contractors under 5 U.S.C. 552a(m):

Disclosure may be made to agency contractors, grantees, or volunteers who have been engaged to assist FMSHRC in the performance of a contract service related to a Privacy Act system of records and who need to have access to the records in order to perform the activity. Recipients shall be required to comply with the requirements of the Privacy Act.

(7) Routine use to the Department of Health and Human Services (“HHS”) parent locator system for finding parents who do not pay child support:

The name and current address of record of an individual may be disclosed from a Privacy Act system of record to the parent locator service of HHS or authorized persons defined by Public Law 93-647, 42 U.S.C. 653.

(8) Routine use for use in employment, clearances, licensing, contract, grant or other benefits decisions by FMSHRC:

Disclosure may be made to federal, state, local or foreign agency maintaining civil, criminal, or other relevant enforcement records, or other pertinent records, or to another public authority or professional organization, if necessary to obtain information relevant to an investigation concerning the retention of an employee or other personnel action, the retention of a security clearance, the letting of a contract, or the issuance or retention of a grant, or other benefit.

(9) For use in employment, clearances, licensing, contract, grant or other benefit decisions by other than FMSHRC:

Disclosure may be made to a federal, state, local, foreign, or tribal or other public authority of the fact that a Privacy Act system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within FMSHRC or to another federal agency for criminal, civil, administrative, personnel, or regulatory action.

(10) For purposes of financial audit or internal control:

Disclosure may be made to a federal agency or to members of the private sector under contract with FMSHRC in the performance of a financial audit or evaluation of internal control, pursuant to 31 U.S.C. 501 et seq.

FMSHRC-01

System name:

Pay and Leave Records

System location:

(1) FMSHRC at 1730 K Street, NW, 6th Floor, Washington, DC 20006; (2) United States Department of Treasury's Bureau of Public Debt (“BPD”) at PESO Branch-DPM, 200 Third Street, Room 206-1, Parkersburg, WV 26106; (3) United States Department of Agriculture's National Finance Center (“NFC”) at P.O. Box 60000, New Orleans, LA 70160. BPD and NFC hold records for FMSHRC under interagency agreement.

Categories of individuals covered by the system:

Current and former employees and members of FMSHRC.

Categories of records in the system:

Various payroll and leave records including, among other documents, time and attendance cards; payment vouchers; comprehensive listing of employees; health benefit records; requests for deductions; tax forms and W-2 forms; overtime requests; leave data; and retirement records. Records are used by FMSHRC, BPD and NFC to maintain adequate payroll and leave information for FMSHRC employees, and otherwise by FMSHRC, BPD, and NFC employees who have a need for the record in the performance of their duties.

Authority for maintenance of the system:

30 U.S.C. 823, 823a, 824; 5 U.S.C. 5501 et seq.; 31 U.S.C. “Money and Finance,” generally.

Purpose(s):

Information in this system is used to prepare payroll, to meet Government payroll recordkeeping and reporting requirements, and to retrieve and supply payroll and leave information as required for Commission needs.

Routine uses of records maintained in the system, including categories of users and the purposes of such uses:

Disclosures may be made under this system:

1. To other Government agencies, commercial or credit organizations, or to prospective employers to verify employment.

2. To federal, state, and local taxing authorities concerning compensation to employees or to contractors; to Office of Personnel Management, Department of the Treasury, and other federal agencies concerning pay, benefits, and retirement of employees; to federal employees' health benefits carriers concerning health insurance of employees; to financial organizations concerning employee allotments and net pay to checking accounts; to state human resource offices administering unemployment compensation programs; and to heirs, executors, and legal representatives of beneficiaries.

3. To federal agencies or to members of the private sector under contract with FMSHRC, in the performance of financial audits or evaluation of internal control;

4. To the Office of Child Support Enforcement, Administration for Children and Families, Department of Health and Human Services Federal Parent Locator Service (“FPLS”) and Federal Tax Offset System for use in locating individuals and identifying their income sources to establish paternity, establish and modify orders of support and for enforcement action;

5. To the Office of Child Support Enforcement for release to the Social Security Administration for verifying social security numbers in connection with the operation of the FPLS by the Office of Child Support Enforcement;

6. To the Office of Child Support Enforcement for release to the Department of Treasury for purposes of administering the Earned Income Tax Credit Program (section 32, Internal Revenue Code of 1986) and verifying a claim with respect to employment in a tax return;

Additional routine uses are listed in the General Statement of Routine Uses.

Disclosure to consumer reporting agencies:

Disclosures may be made from this system to “consumer reporting agencies” as defined in the Fair Credit Reporting Act (15 U.S.C. 1681a(f)) or the Federal Claims Collection Act of 1966 (31 U.S.C. 3701(a)(3)) in accordance with 31 U.S.C. 3711(f).

Policies and practices for storing, retrieving, accessing, retaining, and disposing of records in the system:

Storage:

Duplicate records are stored at FMSHRC's office in Washington, DC, and at the offices of the BPD and NFC. FMSHRC's records are paper.

Retrievability:

Social Security number, and name.

Safeguards:

Paper records in FMSHRC's office in Washington, DC are stored in locked file cabinets and are released only to authorized personnel. Access to FMSHRC's office in Washington, DC may be gained only by using an electronically keyed number, which is provided only to FMSHRC personnel and is changed on a regular basis.

Retention and disposal:

Retention and disposal of records is in accordance with the National Archives and Records Administration's General Records Schedule requirements for payroll-related records.

System manager(s) and address:

Records Management Officer, Federal Mine Safety and Health Review Commission, Room 6033, 1730 K Street, NW, Washington, DC 20006.

Notification procedure:

Contact Executive Director or refer to FMSHRC regulations contained in 29 CFR part 2705.

Record access procedures:

Contact Executive Director or refer to FMSHRC regulations contained in 29 CFR part 2705.

Contesting record procedures:

Contact Executive Director or refer to FMSHRC regulations contained in 29 CFR part 2705.

Record source categories:

The subject individual; FMSHRC.

Exemptions claimed for the system:

None.

FMSHRC-02

System name:

General Finance, Accounting, and Travel Records

System location:

(1) FMSHRC at 1730 K Street, NW, Washington, DC 20006; (2) BPD at PESO Branch-DPM, 200 Third Street, Room 206-1, Parkersburg, WV 26106. BPD holds records for FMSHRC under interagency agreement.

Categories of individuals covered by the system:

Current and former employees and members of FMSHRC and persons who provide supplies or services to FMSHRC by contract or purchase order.

Categories of records in the system:

Various accounting records including, among other documents, vendor identification numbers for electronic payments, vendor registers and vendor payments; records pertaining to usage of Government credit cards for administrative supplies purchases; records pertaining to Westlaw usage; travel authorizations; travel vouchers, which include receipts, dates, expenses, amounts advanced, amounts claimed, and amounts reimbursed.

Authority for maintenance of the system:

30 U.S.C. 823, 823a, 824; 31 U.S.C. “Money and Finance,” generally; 5 U.S.C. 5701 et seq.; 40 U.S.C. 471 et seq.

Purpose(s):

The information in this system is used to provide records of reimbursement to and collections from employees for expenses incurred while in official travel status, to provide payments to vendors and other Government agencies, to maintain control over the collection and disbursement of FMSHRC funds, to prepare reports, and to assist in any financial audits or evaluation of internal control.

Routine uses of records maintained in the system, including categories of users and the purposes of such uses:

Disclosures may be made under this system:

1. To federal agencies or to members of the private sector under contract with FMSHRC, in the performance of financial audits or evaluation of internal control;

2. To the Internal Revenue Service for investigation;

3. To private attorneys, pursuant to power of attorney;

4. To members of Congress, to FMSHRC personnel, and to other agencies for budgetary and reporting purposes;

5. See General Statement of Routine Uses.

Disclosure to consumer reporting agencies:

Disclosures may be made from this system to “consumer reporting agencies” as defined in the Fair Credit Reporting Act (15 U.S.C. 1681a(f)) or the Federal Claims Collection Act of 1966 (31 U.S.C. 3701(a)(3)) in accordance with 31 U.S.C. 3711(f).

Policies and practices for storing, retrieving, accessing, retaining, and disposing of records in the system:

Storage:

Paper records are stored at FMSHRC's office in Washington, DC; some duplicate records are stored at the BPD.

Retrievability:

Manual by name, social number, or assigned password number.

Safeguards:

Paper records in FMSHRC's office in Washington, DC are stored in locked file cabinets and are released only to authorized personnel. Access to FMSHRC's office in Washington, DC may be gained only by using an electronically keyed number, which is provided only to FMSHRC personnel and is changed on a regular basis.

Retention and disposal:

In accordance with the General Records Schedules issued by the National Archives and Records Administration pertaining to accounting, procurement, and travel records.

System manager(s) and address:

Records Management Officer, Federal Mine Safety and Health Review Commission, Room 6033, 1730 K Street, NW, Washington, DC 20006.

Notification procedure:

Contact Executive Director or refer to FMSHRC regulations contained in 29 CFR part 2705.

Record access procedures:

Contact Executive Director or refer to FMSHRC regulations contained in 29 CFR part 2705.

Contesting record procedures:

Contact Executive Director or refer to FMSHRC regulations contained in 29 CFR part 2705.

Record source categories:

The subject individual; FMSHRC.

Exemptions claimed for the system:

None.

FMSHRC-03

System name:

General Informal Personnel Files

System location:

FMSHRC at 1730 K Street, NW, 6th Floor, Washington, DC 20006.

Categories of individuals covered by the system:

Current and former employees and members of FMSHRC.

Categories of records in the system:

General personnel information including position descriptions; performance appraisals; notifications of personnel action (SF-50's); employment history; home address; date of birth; grade and salary; age; social security number; resumes and SF 171's; OF 612's; letters of recommendation or for performance recognition; and other records relating to insurance coverage, health benefits, and dates service commenced and ended.

Authority for maintenance of the system:

30 U.S.C. 823, 823a, 824; 44 U.S.C. 3101 et seq.; 5 U.S.C. “Government Organization and Employees,” generally.

Purpose(s):

Information in this system is used to meet Government personnel recordkeeping and reporting requirements, and to retrieve personnel information as required for FMSHRC needs.

Routine uses of records maintained in the system, including categories of users and the purposes of such uses:

1. See General Statement of Routine Uses.

Disclosure to consumer reporting agencies:

Disclosures may be made from this system to “consumer reporting agencies” as defined in the Fair Credit Reporting Act (15 U.S.C. 1681a(f)) or the Federal Claims Collection Act of 1966 (31 U.S.C. 3701(a)(3)) in accordance with 31 U.S.C. 3711(f).

Policies and practices for storing, retrieving, accessing, retaining, and disposing of records in the system:

Storage:

Paper records are stored at FMSHRC's office in Washington, DC.

Retrievability:

Manual by name.

Safeguards:

Paper records in FMSHRC's office in Washington, DC are stored in locked file cabinets and are released only to authorized personnel. Access to FMSHRC's office in Washington, DC may be gained only by using an electronically keyed number, which is provided only to FMSHRC personnel and is changed on a regular basis.

Retention and disposal:

In accordance with the General Records Schedules issued by the National Archives and Records Administration and FMSHRC's Records Management Handbook.

System manager(s) and address:

Records Management Officer, Federal Mine Safety and Health Review Commission, Room 6033, 1730 K Street, NW, Washington, DC 20006.

Notification procedure:

Contact Executive Director or refer to FMSHRC regulations contained in 29 CFR part 2705.

Record access procedures:

Contact Executive Director or refer to FMSHRC regulations contained in 29 CFR part 2705.

Contesting record procedures:

Contact Executive Director or refer to FMSHRC regulations contained in 29 CFR part 2705.

Record source categories:

The subject individual; FMSHRC.

Exemptions claimed for the system:

None.

FMSHRC-04

System name:

Biographical Data File—Presidential Appointees

System location:

FMSHRC at 1730 K Street, NW, 6th Floor, Washington, DC 20006

Categories of individuals covered by the system:

Present and former Presidential appointees to FMSHRC positions.

Categories of records in the system:

Records may include biographical sketches and photographs.

Authority for maintenance of the system:

30 U.S.C. 823; 44 U.S.C. 3101 et seq.

Purpose(s):

To document and provide information regarding pertinent aspects of the personal and professional history of FMSHRC's Commissioners.

Routine uses of records maintained in the system, including categories of users and the purposes of such uses:

Disclosures may be made under this system:

1. To the public upon request unless it is determined that release of the specific information in the context of that particular request would constitute an unwarranted invasion of personal privacy;

2. To Congress to answer inquiries regarding Commissioners;

3. See General Statement of Routine Uses.

Disclosure to consumer reporting agencies:

None.

Policies and practices for storing, retrieving, accessing, retaining, and disposing of records in the system:

Storage:

Paper in file cabinets.

Retrievability:

Manual by name.

Safeguards:

Maintained in file cabinets under the surveillance of office personnel. Access to FMSHRC's office in Washington, DC may be gained only by using an electronically keyed number, which is provided only to FMSHRC personnel and is changed on a regular basis.

Retention and disposal:

In accordance with the General Records Schedule and FMSHRC's Records Management Handbook, records are transferred to the National Archives and Records Administration in 3-year blocks when the most recent record in a block is 3 years old. Copies are maintained permanently with FMSHRC.

System manager(s) and address:

Records Management Officer, Federal Mine Safety and Health Review Commission, Room 6033, 1730 K Street, NW, Washington, DC 20006.

Notification procedure:

Contact Executive Director or refer to FMSHRC regulations contained in 29 CFR part 2705.

Record access procedures:

Contact Executive Director or refer to FMSHRC regulations contained in 29 CFR part 2705.

Contesting record procedures:

Contact Executive Director or refer to FMSHRC regulations contained in 29 CFR part 2705.

Record source categories:

The subject individual.

Exemptions claimed for the system:

None.

FMSHRC-05

System name:

Federal Fare Subsidy Benefit Program Records

System location:

FMSHRC at 1730 K Street, NW, 6th Floor, Washington, DC 20006.

Categories of individuals covered by the system:

Employees and members of FMSHRC who participate in the federal fare subsidy benefit program.

Categories of records in the system:

Various records required to administer the federal fare subsidy benefit program, which include information regarding a participant's mode of transportation, monthly cost of transportation, and reports of disbursements.

Authority for maintenance of the system:

The Federal Employees Clean Air Incentives Act (section 2(a) of Pub. L. 103-172, found at 5 U.S.C. 7905); the Transportation Equity Act for the 21st Century (section 9010 of Pub. L. 105-178, found at 112 Stat. 507 (1998)); 30 U.S.C. 823, 823a, 824.

Purpose(s):

Information in this system is used to administer the federal fare subsidy benefit program, to meet Government recordkeeping requirements, and to retrieve and supply transit information as required for FMSHRC needs.

Routine uses of records maintained in the system, including categories of users and the purposes of such uses:

The FMSHRC does not normally disclose records from this system of records except to those FMSHRC employees who have a need for such records in the performance of their duties. However, in the event it is appropriate, records may be disclosed as provided in the General Statement of Routine Uses.

Disclosure to consumer reporting agencies:

None.

Policies and practices for storing, retrieving, accessing, retaining, and disposing of records in the system:

Storage:

Paper in locked file cabinets.

Retrievability:

Manual by name.

Safeguards:

Transit benefit program records are stored in a locked file cabinet. Access to FMSHRC's office in Washington, DC may be gained only by using an electronically keyed number, which is provided only to FMSHRC personnel and is changed on a regular basis.

Retention and disposal:

Retention and disposal of records is in accordance with National Archives and Records Administration's General Records Schedule and FMSHRC's Records Management Handbook. System manager(s) and address: Records Management Officer, Federal Mine Safety and Health Review Commission, Room 6033, 1730 K Street, NW, Washington, DC 20006.

Notification procedure:

Contact Executive Director or refer to FMSHRC regulations contained in 29 CFR part 2705.

Record access procedures:

Contact Executive Director or refer to FMSHRC regulations contained in 29 CFR part 2705.

Contesting record procedures:

Contact Executive Director or refer to FMSHRC regulations contained in 29 CFR part 2705.

Record source categories:

FMSHRC employees who are participants in the Transit Benefit Program.

Exemptions claimed for the system:

None.

FMSHRC-06

System name:

Official Case Files Filed according to and Retrieved by Name of Individually-Named Miner.

System location:

FMSHRC at 1730 K Street, NW, 6th Floor, Washington, DC 20006.

Categories of individuals covered by the system:

Individually-named miners whose names are used for filing and retrieval purposes of the official case file of cases arising under the Federal Mine Safety and Health Act of 1977, 30 U.S.C. 801 et seq. (1994) (Mine Act). Official case files are retrieved by reference to docket number, and in some instances, by case name. In the large majority of cases before FMSHRC, case names are derived from the name of a mine operator or a union. In a small percentage of cases, cases are identified by an individual miner's name, such as when a miner brings a discrimination complaint in an individual capacity under 30 U.S.C. 815(c)(3), or when the Secretary of Labor takes an enforcement action against a miner under 30 U.S.C. 820(c) or 820(g). This system of records covers only those official case files filed according to and retrieved by an individually-named miner's name.

Categories of records in the system:

Records in this system include documents and pleadings filed by parties, hearing transcripts and exhibits, transcripts of oral argument, and decisions and orders issued by FMSHRC.

Authority for maintenance of the system:

30 U.S.C. 823, 823a; 44 U.S.C. 3101 et seq.

Purpose(s):

FMSHRC provides trial and appellate review of cases arising under the Mine Act. Official case files store documents used by FMSHRC in its consideration and review of such cases, and provide information regarding such cases.

Routine uses of records maintained in the system, including categories of users and the purposes of such uses:

Disclosures may be made under this system:

1. To the public pursuant to 29 CFR 2702.4 or upon request unless it is determined that the release of specific information in the context of a particular case would constitute an unwarranted invasion of personal privacy;

2. See General Statement of Routine Uses.

Disclosure to consumer reporting agencies:

None.

Policies and practices for storing, retrieving, accessing, retaining, and disposing of records in the system:

Storage:

Paper records in file folders.

Retrievability:

By case name or docket number.

Safeguards:

File folders are maintained in file cabinets. Access to FMSHRC's office in Washington, DC may be gained only by using an electronically keyed number, which is provided only to FMSHRC personnel and is changed on a regular basis.

Retention and disposal:

In accordance with the General Records Schedule and FMSHRC's Records Management Handbook, the cut-off date for files is at the close of the case. Files are retired to the Washington National Records Center 1 year after the cutoff, and destroyed 7 years after the cutoff.

System manager(s) and address:

Records Management Officer, Federal Mine Safety and Health Review Commission, 1730 K Street, NW, Washington, DC 20006.

Notification procedure:

Contact Executive Director or refer to FMSHRC regulations contained in 29 CFR part 2705.

Record access procedures:

Contact Executive Director or refer to FMSHRC regulations contained in 29 CFR part 2705.

Contesting record procedures:

Contact Executive Director or refer to FMSHRC regulations contained in 29 CFR part 2705.

Record source categories:

The parties, their representatives, FMSHRC.

Exemptions claimed for the system:

None.

Dated: March 30, 2000.
Mary Lu Jordan,
Chairman, Federal Mine Safety and Health Review Commission.

[FR Doc. 00-8507 Filed 4-5-00; 8:45 am]

BILLING CODE 6735-01-P